DEPARTMENT OF THE INTERIOR

National Park Service

[NPS-WASO-NAGPRA-NPS0037919; PPWOCRADN0-PCU00RP14.R50000]

Notice of Inventory Completion: Longyear Museum of Anthropology, Colgate University, Hamilton, NY

AGENCY: National Park Service, Interior.

ACTION: Notice.

SUMMARY: In accordance with the Native American Graves Protection and Repatriation Act (NAGPRA), the Longyear Museum of Anthropology (LMA) has completed an inventory of human remains and has determined that there is a cultural affiliation between the human remains and Indian Tribes or Native Hawaiian organizations in this notice.

DATES: Repatriation of the human remains in this notice may occur on or after June 12, 2024.

ADDRESSES: Kelsey Olney-Wall, Repatriation Manager, University Museums, Colgate University, 13 Oak Drive, Hamilton, NY 13346, telephone (315) 228-7677, email kolneywall@colgate.edu.

SUPPLEMENTARY INFORMATION: This notice is published as part of the National Park Service's administrative responsibilities under NAGPRA. The determinations in this notice are the sole responsibility of the LMA, and additional information on the determinations in this notice, including the results of consultation, can be found in the inventory or related records. The National Park Service is not responsible for the determinations in this notice.

Abstract of Information Available

Based on the information available, human remains representing at least 14 individuals have been reasonably identified.

At minimum 14 individuals were believed to be removed between 1950 and 1980 from an unknown number of archaeological sites by avocational archaeologists associated with the Chenango Chapter of the New York State Archaeological Association (formally the Chenango Archaeological Society). The relationship between Theodore Whitney, an avocational archaeologist that donated materials and Ancestral remains to LMA, and the avocational Archaeologists in the Chenango Chapter of the New York State Archaeological Association (formally the Chenango Archaeological Society), along with the identified burials published in the Chenango Chapter bulletin, link these individuals to the Ancestral land of the Oneida Indian Nation. To date, the Ancestors removed from these sites have not been accounted for in other NAGPRA Inventories or past repatriations. Geographical affiliation from the Chenango Chapter excavations are consistent with the archaeologically documented territory of the Oneida Indian Nation.

Cultural Affiliation

Based on the information available and the results of consultation, cultural affiliation is reasonably identified by the acquisition history of the human remains described in this notice.

Determinations

The LMA has determined that:

• The human remains described in this notice represent the physical remains of at least 14 individuals of Native American ancestry.

• There is a reasonable connection between the human remains described in this notice and the Oneida Indian Nation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after June 12, 2024. If competing requests for repatriation are received, the LMA must determine the most appropriate requestor prior to repatriation. Requests for joint repatriation of the human remains are considered a single request and not competing requests. The LMA is responsible for sending a copy of this notice to the Indian Tribes and Native Hawaiian organizations identified in this notice.

Authority: Native American Graves Protection and Repatriation Act, 25 U.S.C. 3003, and the implementing regulations, 43 CFR 10.10.

Dated: May 3, 2024.
Melanie O'Brien,
Manager, National NAGPRA Program.

[FR Doc. 2024-10332 Filed 5-10-24; 8:45 am]

BILLING CODE 4312-52-P